DEPARTMENT OF COMMERCE

International Trade Administration

[A-351-825]

Stainless Steel Bar From Brazil: Final Results of Antidumping Duty Administrative Review; 2015-2016

AGENCY: Enforcement and Compliance, International Trade Administration, Department of Commerce.

SUMMARY: On March 1, 2017, the Department of Commerce (the Department) published the preliminary results of the administrative review of the antidumping duty order on stainless steel bar (SSB) from Brazil. The period of review (POR) is February 1, 2015, through January 31, 2016. The review covers one producer/exporter of the subject merchandise, Villares Metals S.A. (Villares). For the final results of this review, we continue to find that subject merchandise has not been sold at less than normal value.

DATES: Effective June 16, 2017.

FOR FURTHER INFORMATION CONTACT: Hermes Pinilla or Minoo Hatten, AD/CVD Operations, Office I, Enforcement and Compliance, International Trade Administration, U.S. Department of Commerce, 1401 Constitution Avenue NW., Washington, DC 20230; telephone: (202) 482-3477, and (202) 482-1690, respectively.

SUPPLEMENTARY INFORMATION:

Background

On March 1, 2017, the Department published the Preliminary Results of the administrative review in which it determined that subject merchandise has not been sold at less than fair value.¹ The Department stated its intent to issue a supplemental questionnaire after the Preliminary Results in light of pre-preliminary comments from Carpenter Technology Corporation, Crucible Industries LLC, Electralloy, a Division of G.O. Carlson, Inc., North America Stainless, and Valbruna Slater Stainless, Inc. (collectively, the petitioners).² On March 10, 2017, the Department issued a supplemental questionnaire to Villares regarding its reporting of certain expense and revenue items,³ and received a response on April 3, 2017.⁴ No party commented on Villares' April 3, 2017, supplemental questionnaire response. The Department also gave interested parties an opportunity to comment on the Preliminary Results, but received no comments. The Department conducted this review in accordance with section 751(a)(1)(B) of the Tariff Act of 1930, as amended (the Act).

¹ See Stainless Steel Bar from Brazil: Preliminary Results of Antidumping Duty Administrative Review; 2015-2016, 82 FR 12197 (March 1, 2017) (Preliminary Results) and Decision Memorandum for Preliminary Results of Antidumping Duty Administrative Review: Stainless Steel Bar from Brazil, dated February 23, 2017 (Preliminary Decision Memorandum).

² See Preliminary Decision Memorandum at 2.

³ See the Department's supplemental questionnaire, dated March 10. 2017.

⁴ See Villares' supplemental questionnaire response, dated April 3, 2017.

Scope of the Order

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.00, 7222.11.00, 7222.19.00, 7222.20.00, 7222.30.00 of the Harmonized Tariff Schedule of the United States (HTSUS). Although the HTSUS subheadings are provided for convenience and customs purposes, the written description of the scope of the order is dispositive.

Changes Since the Preliminary Results

After consideration of Villares' April 3, 2017, supplemental questionnaire response, the Department made minor changes to its calculations announced in the Preliminary Results.⁵ Specifically, for the final results of this administrative review, we used Villares' revised sales databases that it submitted to the Department in response to a March 10, 2017, supplemental questionnaire, which we issued after the Preliminary Results.⁶

⁵ For further details, see Memorandum to the File, “Administrative Review of the Antidumping Duty Order on Stainless Steel Bar from Brazil: Final Analysis Memorandum for Villares Metals S.A.; 2015-2016,” dated concurrently with this notice (Final Analysis Memorandum).

⁶ See the Department's supplemental questionnaire dated March 10, 2017.

In addition, in our March 10, 2017, supplemental questionnaire, we requested that Villares ensure and confirm that it reported gross unit prices net of any expenses and that any expenses (freight, insurance, merchandise processing fee, harbor maintenance fees, entry fee, etc.) were properly reported in their corresponding expense field.⁷ Villares provided the Department a U.S. sales database in Excel format with the appropriate expense fields. We reviewed the information provided by Villares and determined that the freight amounts reported constituted as freight revenue and therefore, consistent with the Department's practice, it is appropriate to treat freight revenue as offsets to certain expenses.⁸ Accordingly, for the final results, we capped Villares' freight revenues in our calculation of U.S. price.⁹

⁷ See the Department's March 10, 2017, third supplemental questionnaire at page 5.

⁸ See Certain Orange Juice from Brazil: Final Results and Partial Rescission of Antidumping Duty Administrative Review, 73 FR 46584 (August 11, 2008), and the accompanying Issues and Decision Memorandum (I&D Memo) at Comment 7, and Polyethylene Retail Carrier Bags from the People's Republic of China: Final Results of Antidumping Duty Administrative Review, 74 FR 6857 (February 11, 2009), and the accompanying I&D Memo at Comment 6.

⁹ For further details, see Memorandum to the File, “Administrative Review of the Antidumping Duty Order on Stainless Steel Bar from Brazil: Final Analysis Memorandum for Villares Metals S.A.; 2015-2016,” dated concurrently with this memorandum.

Final Results of Administrative Review

As a result of this review, we continue to find that a weighted-average dumping margin of 0.00 percent exists for Villares for the period February 1, 2015, through January 31, 2016.

Assessment

In accordance with section 751(a)(2)(C) of the Act, 19 CFR 351.212(b) and the Final Modification,¹⁰ the Department will instruct U.S. Customs and Border Protection (CBP) to liquidate all appropriate entries for Villares without regard to antidumping duties.

¹⁰ See Antidumping Proceedings: Calculation of the Weighted-Average Dumping Margin and Assessment Rate in Certain Antidumping Duty Proceedings; Final Modification, 77 FR 8101, 8102 (February 14, 2012) (Final Modification).

For entries of subject merchandise during the POR produced by Villares for which it did not know that the merchandise was destined for the United States, we will instruct CBP to liquidate un-reviewed entries at the all-others rate if there is no rate for the intermediate company(ies) involved in the transaction. We intend to issue instructions to CBP 15 days after publication of the final results of this review.

Cash Deposit Requirements

The following cash deposit requirements will be effective upon publication of the notice of final results of the administrative review for all shipments of SS Bar from Brazil entered, or withdrawn from warehouse, for consumption on or after the date of publication as provided by section 751(a)(2)(C) of the Act: (1) The cash deposit rate for Villares, will be 0.00 percent, the weighted average dumping margin established in the final results of this administrative review; (2) for merchandise exported by manufacturers or exporters not covered in this administrative review but covered in a prior segment of the proceeding, the cash deposit rate will continue to be the company-specific rate published for the most recently completed segment of this proceeding in which that manufacturer or exporter participated; (3) if the exporter is not a firm covered in this administrative review, a prior review, or the original investigation, but the manufacturer is, the cash deposit rate will be the rate established for the most recently completed segment of this proceeding for the manufacturer of subject merchandise; and (4) the cash deposit rate for all other manufacturers or exporters will continue to be 64.93 percent, the all-others rate established in the original less-than-fair-value investigation.¹¹ These cash deposit requirements, when imposed, shall remain in effect until further notice.

¹¹ See Notice of Final Determination of Sales at Less Than Fair Value: Stainless Steel Bar from Brazil, 59 FR 66914 (December 28, 1994).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

Notification to Interested Parties

We are issuing and publishing these results in accordance with sections 751(a)(1) and 777(i)(1) of the Act.

Dated: June 12, 2017.
Ronald K. Lorentzen,
Acting Assistant Secretary for Enforcement and Compliance.

[FR Doc. 2017-12524 Filed 6-15-17; 8:45 am]

BILLING CODE 3510-DS-P